DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List based on OFAC's determination that one or more applicable legal criteria were satisfied. All property and interests in property subject to U.S. jurisdiction of these persons are blocked, and U.S. persons are generally prohibited from engaging in transactions with them.

DATES: See SUPPLEMENTARY INFORMATION section.

FOR FURTHER INFORMATION CONTACT: OFAC: Associate Director for Global Targeting, tel.: 202-622-2420; Assistant Director for Sanctions Compliance & Evaluation, tel.: 202-622-2490; Assistant Director for Licensing, tel.: 202-622-2480; or the Department of the Treasury's Office of the General Counsel: Office of the Chief Counsel (Foreign Assets Control), tel.: 202-622-2410.

SUPPLEMENTARY INFORMATION:

Electronic Availability

The Specially Designated Nationals and Blocked Persons List and additional information concerning OFAC sanctions programs are available on OFAC's website (www.treas.gov/ofac).

Notice of OFAC Actions

On May 15, 2018, OFAC determined that the property and interests in property subject to U.S. jurisdiction of the following persons are blocked under the relevant sanctions authorities listed below.

Individuals

1. KAREEM, Aras Habib (a.k.a. KAREEM, Aras Habib Mohamed; a.k.a. KARIM, Aras Habib; a.k.a. “HABIB, Aras”), Iraq; DOB 06 Aug 1967; POB Iraq; Additional Sanctions Information—Subject to Secondary Sanctions; Gender Male (individual) [SDGT] [IRGC] [IFSR] (Linked To: ISLAMIC REVOLUTIONARY GUARD CORPS (IRGC)-QODS FORCE).

Designated pursuant to section 1(d)(i) of E.O. 13224 for assisting in, sponsoring, or providing financial, material, techological support for, or financial or other services to or in support of, Iran's ISLAMIC REVOLUTIONARY GUARD CORPS-QODS FORCE, a person determined to be subject to E.O. 13224.

2. QASIR, Muhammad (a.k.a. KASSIR, Mohammed Jaafar; a.k.a. QASIR, Muhammad Jafar; a.k.a. “EYNAKI”; a.k.a. “FADI”; a.k.a. “GHOLI, Hossein”; a.k.a. “MAJID”; a.k.a. “SALAH, Shaykh”), Syria; DOB 12 Feb 1967; POB Dayr Qanun Al-Nahr, Lebanon; Additional Sanctions Information—Subject to Secondary Sanctions Pursuant to the Hizballah Financial Sanctions Regulations; Gender Male (individual) [SDGT] (Linked To: HIZBALLAH).

Designated pursuant to section 1(c) of E.O. 13224 for acting for or on behalf of, HIZBALLAH, a person determined to be subject to E.O. 13224.

3. SEIF, Valiollah, Iran; DOB 1952; POB Nahavand, Hamadan Province, Iran; Additional Sanctions Information—Subject to Secondary Sanctions; Gender Male (individual) [SDGT] [IFSR] (Linked To: ISLAMIC REVOLUTIONARY GUARD CORPS (IRGC)-QODS FORCE).

Designated pursuant to section 1(d)(i) of E.O. 13224 for assisting in, sponsoring, or providing financial, material, techological support for, or financial or other services to or in support of, Iran's ISLAMIC REVOLUTIONARY GUARD CORPS-QODS FORCE, a person determined to be subject to E.O. 13224.

4. TARZALI, Ali, Iran; DOB 10 Oct 1964; POB Tehran, Iran; Additional Sanctions Information—Subject to Secondary Sanctions; Gender Male; Passport B23527205 (Iran); National ID No. 005-156675-3 (Iran); Birth Certificate Number 2233 (Iran) (individual) [SDGT] [IFSR] (Linked To: ISLAMIC REVOLUTIONARY GUARD CORPS (IRGC)-QODS FORCE).

Designated pursuant to section 1(d)(i) of E.O. 13224 for assisting in, sponsoring, or providing financial, material, techological support for, or financial or other services to or in support of, Iran's ISLAMIC REVOLUTIONARY GUARD CORPS-QODS FORCE, a person determined to be subject to E.O. 13224.

Entity

1. AL-BILAD ISLAMIC BANK FOR INVESTMENT AND FINANCE P.S.C. (a.k.a. AL BILAD ISLAMIC BANK), 37 Building El-Karadeh 909 Street 1 Near Al Hurea Square, Baghdad, Iraq; Al Masbah Branch, Baghdad Al Masbah Intersection, 929 Street 17 Bldg. 40, Previously the German Embassy, Baghdad, Iraq; Erbil Branch, Erbil Province, 60 Bldg 354/132, 45 Street, Erbil, Iraq; Al Mawarid Branch, Baghdad—Street 62 Neighboring the Department of Electricity, Baghdad, Iraq; Al Nasiryah Branch, Zi Kar Province El Saray, Bldg. 2/239 Janat Al Janoub Hotel Building, Nasiryah, Iraq; Al Basra Branch Al Basra, Manawy Pasha Corniche Street, Basra, Iraq; Al Sadr Branch, Jameela District—8-22-512, Sadr City, Iraq; Al Jaderya Branch Baghdad, Al Jaderya—Versus Baghdad University, 906 Street 28—Dar 3, Baghdad, Iraq; Karbala Branch Karbala, Al Dareeba Intersection, Karbala, Iraq; Al Najaf Branch, Al Najaf Al Ashraf, Al Amir District—Al Koufa Street, Najaf, Iraq; Zakho Branch Dahook, Zakho—Ibrahim Al Khaleel Street, Baydar Boulevard, Zakho, Iraq; Al Mansour Branch Baghdad, Al Mansour-12-G 605-M-Bldg, Baghdad, Iraq; Babel Branch Babel, Kalaj—Al Honood Branch, Babel, Iraq; Beirut Branch Lebabon, Beirut—Hamra Street, Broadway Center—Versus Costa Caf, Lebanon, Beirut, Lebanon; website www.Bilad-Bank.com; Additional Sanctions Information—Subject to Secondary Sanctions [SDGT] [IRGC] [IFSR].

Designated pursuant to section 1(c) of E.O. 13224 for being owned or controlled by ARAS HABIB KAREEM.

Dated: May 15, 2018.
Andrea M. Gacki,
Acting Director, Office of Foreign Assets Control.

[FR Doc. 2018-10660 Filed 5-17-18; 8:45 am]

BILLING CODE 4810-AL-P